DEPARTMENT OF HEALTH AND HUMAN SERVICES

Office of the Secretary

Opportunity for Co-Sponsorship of the President's Challenge Physical Activity and Fitness Awards Program

AGENCY: Department of Health and Human Services, Office of the Secretary, Office of Public Health and Science, Office of the President's Council on Physical Fitness and Sports.

ACTION: Notice.

SUMMARY: The Office of the President's Council on Physical Fitness and Sports (PCPFS) announces the opportunity for non-Federal public and private sector entities to co-sponsor and administer a series of financially self-sustaining activities related to the President's Challenge Physical Activity and Fitness Awards Program (President's Challenge). Potential co-sponsors must have a demonstrated interest in and be capable of managing the day to day operations associated with the program and be willing to participate substantively in the co-sponsored activity.

DATES: To receive consideration, a request to participate as a co-sponsor must be received by 5 p.m. EST on Friday, February 12, 2010 at the address listed. Requests will meet the deadline if they are either (1) received on or before the deadline date; or (2) postmarked on or before the deadline date. Private metered postmarks will not be accepted as proof of timely mailing. Hand-delivered requests must be received by 5 p.m. Requests that are received after the deadline date will be returned to the sender.

ADDRESSES: Proposals for co-sponsorship should be sent to Jane Wargo, Program Analyst, Office of the President's Council on Physical Fitness and Sports, 200 Independence Avenue, SW., Room 738H, Washington, DC 20201; Ph: (202) 690.5157, Fax: (202) 690.5211. Proposals may also be submitted by electronic mail to jane.wargo@hhs.gov.

FOR FURTHER INFORMATION CONTACT: Jane Wargo, Program Analyst, Office of the President's Council on Physical Fitness and Sports, Ph: (202) 690.5157, E-mail: jane.wargo@hhs.gov.

SUPPLEMENTARY INFORMATION:

Background

The PCPFS was established as the President's Council on Youth Fitness by President Eisenhower in 1956. The PCPFS operates under Executive Order (E.O.) 13265 continued by E.O. 13446. The Council advises the President, through the Secretary, about progress promoting physical activity, fitness, and sports. Specifically, the Council, as outlined in E.O. 13265, Section (1)(b), is directed to “stimulate and enhance coordination of programs within and among the private and public sectors that promote participation in, and safe and easy access to, physical activity and sports” and Section (1)(c) “expand availability of quality information and guidance regarding physical activity and sports participation.” In addition, the Council, as stated in Section (3)(d) “shall monitor the need for the enhancement of programs and educational and promotional materials sponsored, overseen, or disseminated by the Council, and shall advise the Secretary as necessary concerning such need.”

The purpose of the President's Challenge is to motivate individuals six years and older to start and maintain a regular program of physical activity leading to improved health and fitness. Since its inception in 1966, the program has reached millions of American youth. In 2002 the program expanded to include adults aged 18 and older through the Presidential Active Lifestyle Award, Presidential Champions Program, and the Adult Fitness Test. Program materials are available in English and Spanish.

Requirements of Co-Sponsorship: The Office of the PCPFS is seeking a co-sponsoring organization(s) capable of managing the development and distribution of program awards and materials, responding to program inquiries, administering a program website, and identifying ways to enhance the program and participation. This co-sponsorship agreement will be in place for a period of four years beginning on September 1, 2010.

Awards Programs

A. Active Lifestyle Program: Recognizing individuals aged six and older for being physically active on a regular basis. Participants are encouraged to track their participation using an interactive web-based physical activity tracker or a paper log. Award included in this program: Presidential Active Lifestyle Award.

B. Presidential Champions Program: A web-based points program for individuals aged six and older. There is an advanced component to the program, which requires additional points in all categories. Awards included in this program: Platinum, Gold, Silver, and Bronze Awards.

C. Physical Fitness Program: Two award levels recognize youth (ages 6-17) for achieving an outstanding and basic level of fitness on a five item test. The third award in the series recognizes youth for attempting all five items, but falling below the basic level in one or more events. Awards included in this program: Presidential Physical Fitness Award, National Physical Fitness Award, Participant Physical Fitness Award.

D. Health Fitness Program: Recognizes youth (ages 6-17) who achieve a healthy level of fitness based on five test items, including an assessment of Body Mass Index. Award included in this program: Health Fitness Award.

E. Adult Fitness Test: A web-based test for adults aged 18 and older. No awards are linked to this test.

School Recognition Program

A. Physical Fitness State Champion Program—Based on results of the Physical Fitness Program, schools are recognized for having the highest percentage of Presidential Physical Fitness Award winners for their state, based on enrollment (minimum 50 students).

B. Physical Activity and Fitness Demonstration Center Program—Recognizing the important role that schools play in the lives of their students, this program rewards those schools that have demonstrated an outstanding commitment toward physical activity and fitness both in and out of their physical education classroom. Demonstration Center Schools may be designated as such for no more than three years, after which time, they are eligible to be listed as Honor Roll schools. This program utilizes a network of volunteer coordinators to help verify adherence to the Demonstration Center criteria.

C. Active Lifestyle Model School Program—Model schools have 35 percent or more of their total school enrollment earn the PALA two or more times during the school year.

Distribution Center

Each of these program areas shall involve the promotion and distribution of award items. These items may include, but are not limited to, emblems, medallions, ribbons, lapel pins, certificates, bumper stickers, magnets, booklets, pedometers, and apparel. Participating organizations and individuals purchase awards and other program materials directly from the administering organization for a nominal fee. This program is designed to be financially self-sustaining.

Web site Administration

Administration of the President's Challenge Program Web site (http://www.presidentschallenge.org and http://www.adultfitnesstest.org) shall consist of, but not be limited to, the following: hosting, maintenance, customer service, online order center, and a listserv. All work performed in association with these websites shall be Section 508 compliant.

Additional Roles and Responsibilities

The co-sponsoring organization(s) shall help promote the program through outreach activities that may include exhibiting at conferences, speaking at events, and using social media. The co-sponsoring organization shall identify and recommend ways to enhance the program experience, delivery, and outreach.

Eligibility for Co-Sponsorship: To be eligible, a requester shall: (1) Have a demonstrated interest and understanding of physical fitness, physical activity, and/or sport; (2) participate substantively in the co-sponsored activity (not just provide funding or logistical support); (3) have an organizational or corporate mission that is consistent with the public health and safety mission of the Department; and (4) agree to sign a co-sponsorship agreement with the Office of the PCPFS which will set forth the details of the co-sponsored activity including the requirements that any fees raised should not be designed to exceed the co-sponsor's costs, and fees collected by the co-sponsor shall be limited to the amount necessary to cover the co-sponsor's related operating expenses.

The organization selected shall furnish the necessary personnel, materials, services, and facilities to administer the President's Challenge program, including the purchase and/or production of all program and award materials; distribution of program and award materials; promotion and statistical evaluation of the program; quarterly and annual budget and demographic reports; maintenance of partnership list; and other administrative duties. These duties will be determined in a Memorandum of Agreement and an annual plan.

Co-Sponsorship Proposal: Each co-sponsorship proposal shall contain a description of: (1) The entity or organization; (2) its background in promoting physical activity, fitness, and/or sport; (3) its proposed involvement in the co-sponsored activity; and (4) plan for implementation with a timeline.

Evaluation Criteria: The Office of the PCPFS will select the co-sponsor using the following evaluation criteria:

(1) Requester's qualifications and capability to fulfill co-sponsorship responsibilities;

(2) Requester's creativity for enhancing the program, including the medium through which program messages are delivered and ideas for improving program offerings;

(3) Requester's potential for reaching underserved/special populations;

(4) Requester's experience administering national awards programs;

(5) Requester's past or current work specific to national programs or projects in the area(s) of physical activity, fitness, or sports among individuals and in schools and organizations;

(6) Requester's personnel: name, professional qualifications and specific expertise of key personnel who would be available to work on these projects;

(7) Requester's facilities: availability and description of facilities required to administer the program including office space and information technology and telecommunication resources;

(8) Requester's description of financial management: discussion of experience in developing an annual budget and collecting and managing monies from organizations and individuals;

(9) Requester's proposed plan for managing the PCPFS awards programs, including such financial aspects as Web site development and/or enhancement, cost of program materials and distribution of those items.

Availability of Funds: There are no Federal funds available for this co-sponsorship.

Dated: December 22, 2009.
Penelope Slade-Sawyer,
RADM U.S. Public Health Service, Acting Executive Director, President's Council on Physical Fitness and Sports, U.S. Department of Health and Human Services.

[FR Doc. E9-30653 Filed 12-24-09; 8:45 am]

BILLING CODE 4150-35-P